CORPORATION FOR NATIONAL AND COMMUNITY SERVICE

45 CFR Parts 2551, 2552, and 2553

Senior Corps

AGENCY: Corporation for National and Community Service.

ACTION: Final rule; correction.

SUMMARY: The Corporation for National and Community Service (hereinafter the “Corporation”), hereby amends its regulations for three programs (Senior Companions, Foster Grandparents and RSVP). These amendments make technical corrections to the final rules issued on April 14, 2004, for the Foster Grandparent Program, and on April 19, 2004, for the Retired and Senior Volunteer Program. They also clarify the eligibility of and requirements for faith-based organizations to serve as Senior Corps sponsors and volunteer stations under all three programs.

DATES: Effective on October 7, 2004.

FOR FURTHER INFORMATION CONTACT: Mr. Peter Boynton at (202) 606-5000, ext. 499 or by e-mail: pboynton@cns.gov.

List of Subjects in 45 CFR Parts 2551, 2552, and 2553

Aged, Grant programs-social programs, Volunteers.

For the reasons set forth in the preamble, the Corporation for National and Community Service amends 45 CFR parts 2551, 2552, and 2553 as follows:

PART 2551—SENIOR COMPANION PROGRAM

1. The authority citation for part 2551 continues to read as follows:

Authority: 42 U.S.C. 4950 et seq.

2. In § 2551.12, revise paragraphs (r) and (w) to read as follows:

§ 2551.12 Definitions.

* * * * *

(r) Sponsor. A public agency or private non-profit organization, either secular or faith-based, that is responsible for the operation of a Senior Companion project.

* * * * *

(w) Volunteer station. A public agency, secular or faith-based private non-profit organization, or proprietary health care organization that accepts the responsibility for assignment and supervision of Senior Companions in health, education, social service or related settings such as multi-purpose centers, home health care agencies, or similar establishments. Each volunteer station must be licensed or otherwise certified, when required, by the appropriate state or local government. Private homes are not volunteer stations.

3. Revise § 2551.21 to read as follows:

§ 2551.21 Who is eligible to serve as a sponsor?

The Corporation awards grants to public agencies, including Indian tribes and non-profit private organizations, both secular and faith-based, in the United States that have the authority to accept and the capability to administer a Senior Companion project.

4. In § 2551.23, revise paragraph (c)(1) to read as follows:

§ 2551.23 What are a sponsor's program responsibilities?

* * * * *

(c) * * *

(1) Ensuring that a volunteer station is a public or non-profit private organization, whether secular or faith-based, or an eligible proprietary health care agency, capable of serving as a volunteer station for the placement of Senior Companions;

* * * * *

5. Amend § 2551.121 by redesignating paragraph (g) as paragraph (g)(1) and adding paragraph (g)(2) to read as follows:

§ 2551.121 What legal limitations apply to the operation of the Senior Companion Program and to the expenditure of grant funds?

* * * * *

(g) * * *

(2) A sponsor or volunteer station may retain its independence and may continue to carry out its mission, including the definition, development, practice, and expression of its religious beliefs, provided that it does not use Corporation funds to support any inherently religious activities, such as worship, religious instruction, or proselytization, as part of the programs or services funded. If an organization conducts such activities, the activities must be offered separately, in time or location, from the programs or services funded under this part.

* * * * *

PART 2552—FOSTER GRANDPARENT PROGRAM

6. The authority citation for part 2552 continues to read as follows:

Authority: 42 U.S.C. 4950 et seq.

7. In § 2552.12, revise paragraphs (u) and (z) to read as follows:

§ 2552.12 Definitions.

* * * * *

(u) Sponsor. A public agency or private non-profit organization, either secular or faith-based, that is responsible for the operation of a Foster Grandparent project.

* * * * *

(z) Volunteer station. A public agency, secular or faith-based private non-profit organization, or proprietary health care organization that accepts the responsibility for assignment and supervision of Foster Grandparents in health, education, social service or related settings such as multi-purpose centers, home health care agencies, or similar establishments. Each volunteer station must be licensed or otherwise certified, when required, by the appropriate state or local government. Private homes are not volunteer stations.

8. Revise § 2552.21 to read as follows:

§ 2552.21 Who is eligible to serve as a sponsor?

The Corporation awards grants to public agencies, including Indian tribes and non-profit private organizations, both secular and faith-based, in the United States that have the authority to accept and the capability to administer a Foster Grandparent project.

9. In § 2552.23, revise paragraph (c)(1) to read as follows:

§ 2552.23 What are a sponsor's program responsibilities?

* * * * *

(c) * *

(1) Ensuring that a volunteer station is a public or non-profit private organization, whether secular or faith-based, or an eligible proprietary health care agency, capable of serving as a volunteer station for the placement of Foster Grandparents;

* * * * *

10. Amend § 2552.121 by redesignating paragraph (g) as paragraph (g)(1) and adding a new paragraph (g)(2) to read as follows:

§ 2552.121 What legal limitations apply to the operation of the Foster Grandparent Program and to the expenditure of grant funds?

* * * * *

(g) * * *

(2) A sponsor or volunteer station may retain its independence and may continue to carry out its mission, including the definition, development, practice, and expression of its religious beliefs, provided that it does not use Corporation funds to support any inherently religious activities, such as worship, religious instruction, or proselytization, as part of the programs or services funded. If an organization conducts such activities, the activities must be offered separately, in time or location, from the programs or services funded under this part.

* * * * *

PART 2553—THE RETIRED AND SENIOR VOLUNTEER PROGRAM

11. The authority citation for part 2553 continues to read as follows:

Authority: 42 U.S.C. 4950 et seq.

12. In § 2553.12, revise paragraphs (o) and (r) to read as follows:

§ 2553.12 Definitions.

* * * * *

(o) Sponsor. A public agency or private non-profit organization, either secular or faith-based, that is responsible for the operation of an RSVP project.

* * * * *

(r) Volunteer station. A public agency, secular or faith-based private non-profit organization, or proprietary health care organization that accepts the responsibility for assignment and supervision of RSVP volunteers in health, education, social service or related settings such as multi-purpose centers, home health care agencies, or similar establishments. Each volunteer station must be licensed or otherwise certified, when required, by the appropriate state or local government. Private homes are not volunteer stations.

13. Revise § 2553.21 to read as follows:

§ 2553.21 Who is eligible to serve as a sponsor?

The Corporation awards grants to public agencies, including Indian tribes and non-profit private organizations, both secular and faith-based, in the United Sates that have authority to accept and the capability to administer an RSVP project.

14. In § 2553.23, revise paragraph (c)(1) to read as follows:

§ 2553.23 What are a sponsor's program responsibilities?

* * * * *

(c) * * *

(1) Ensuring that a volunteer station is a public or non-profit private organization, whether secular or faith-based, or an eligible proprietary health care agency, capable of serving as a volunteer station for the placement of RSVP volunteers to meet locally identified needs;

* * * * *

15. Amend § 2553.91 by redesignating paragraph (g) as paragraph (g)(1) and adding a new paragraph (g)(2) to read as follows:

§ 2553.91 What legal limitations apply to the operation of the RSVP Program and to the expenditure of grant funds?

* * * * *

(g) * * *

(2) A sponsor or volunteer station may retain its independence and may continue to carry out its mission, including the definition, development, practice, and expression of its religious beliefs, provided that it does not use Corporation funds to support any inherently religious activities, such as worship, religious instruction, or proselytization, as part of the programs or services funded. If an organization conducts such activities, the activities must be offered separately, in time or location, from the programs or services funded under this part.

* * * * *

Dated: September 30, 2004.
Tess Scannell,
Director, Senior Corps.

[FR Doc. 04-22534 Filed 10-6-04; 8:45 am]

BILLING CODE 6050-$$-P